NUCLEAR REGULATORY COMMISSION

Notice of Extension of Call for Nominations for the Advisory Committee on the Medical Uses of Isotopes

AGENCY: U.S. Nuclear Regulatory Commission.

ACTION: Notice.

SUMMARY: A call for nominations was published by the U.S. Nuclear Regulatory Commission (NRC) in the Federal Register (78 FR 28652) on May 15, 2013 for the position of Agreement State representative on the Advisory Committee on the Medical Uses of Isotopes (ACMUI). The nomination period ends on July 15, 2013. This notice confirms a 30 day extension of the nomination period until August 15, 2013.

DATES: Nominations are due on or before August 15, 2013.

Nomination Process: Submit an electronic copy of a resume or curriculum vitae, along with a cover letter, to Ms. Sophie Holiday, at sophie.holiday@nrc.gov.

The resume or curriculum vitae for the Agreement State representative should include the following information, as applicable: Education; certification, current state regulatory experience, professional association membership, committee membership activities, and leadership activities. The nominee must be an employee of an Agreement State Radiation Control Program.

FOR FURTHER INFORMATION CONTACT: Ms. Sophie Holiday, U.S. Nuclear Regulatory Commission, Office of Federal and State Materials and Environmental Management Programs; (301) 415-7865; sophie.holiday@nrc.gov.

Dated at Rockville, Maryland this 10th day of July, 2013.
For the U.S. Nuclear Regulatory Commission.
Andrew L. Bates,
Advisory Committee Management Officer.

[FR Doc. 2013-16987 Filed 7-15-13; 8:45 am]

BILLING CODE 7590-01-P